FEDERAL COMMUNICATIONS COMMISSION

[CC Docket No. 96-45; DA 03-3105]

NPCR, Inc. d/b/a Nextel Partners Petition for Designation as an Eligible Telecommunications Carrier in the State of Tennessee

AGENCY: Federal Communications Commission.

ACTION: Notice; solicitation of comments.

SUMMARY: In this document, the Wireline Competition Bureau sought comment on the Nextel Partners Tennessee (Nextel Partners TN) petition. Nextel Partners TN seeks designation as an eligible telecommunications carrier (ETC) to receive federal universal service support for service offered in non-rural wire centers currently served by BellSouth and portions of the rural study area served by United Inter MT-TN (United).

DATES: Comments are due on or before January 9, 2004. Reply comments are due on or before January 23, 2004.

ADDRESSES: Federal Communications Commission, 445 Twelfth Street, SW., Washington, DC 20554. See Supplementary Information for further filing instructions.

FOR FURTHER INFORMATION CONTACT: Karen Franklin, Attorney, Wireline Competition Bureau, Telecommunications Access Policy Division, (202) 418-7400, TTY (202) 418-0494.

SUPPLEMENTARY INFORMATION: This is a summary of the Commission's public notice, CC Docket No. 96-45, released October 7, 2003. On June 12, 2003, NPCR, Inc. d/b/a Nextel Partners (Nextel Partners TN) filed with the Commission a petition under section 214(e)(6) of the Communications Act of 1934, as amended. In particular, Nextel Partners TN seeks designation as an eligible telecommunications carrier (ETC) to receive federal universal service support for service offered in those portions of Nextel Partners TN's licensed service area located in rural study areas in Tennessee currently served by BellSouth and United Inter MT-TN (United).

Nextel Partners TN contends that the Tennessee Regulatory Authority (TRA) does not regulate Commercial Mobile Radio Service and presents a letter from TRA acknowledging its lack of jurisdiction. Hence, according to Nextel Partners TN, the Commission has jurisdiction under section 214(e)(6) to consider and grant its petition. Nextel Partners TN also maintains that it satisfies all the statutory and regulatory prerequisites for ETC designation, and that designating Nextel Partners TN as an ETC will serve the public interest.

In accordance with § 54.207(c) of the Commission's rules, Nextel Partners TN requests that the Commission designate Nextel as an ETC in a service area defined along boundaries that differ from the incumbent rural local exchange carrier's study area boundaries. The service area requested by Nextel Partners TN for ETC designation partially covers United's study area. Nextel Partners TN requests a redefinition of United's rural service area so each wire center in United's study area is a separate service area. Nextel Partners TN intends to serve each proposed wire center in its entirety. Nextel Partners TN maintains that the proposed redefinition of service areas for ETC purposes is consistent with the factors to be considered when redefining a rural telephone company service area, as enumerated by the Federal-State Joint Board on Universal Service. (Joint Board). The Wireline Competition Bureau seeks comment on the Nextel Partners TN Petition.

The petitioner must provide copies of its petition to the TRA. The Commission will also send a copy of this public notice to the TRA by overnight express mail to ensure that the TRA is notified of the notice and comment period.

Pursuant to §§ 1.415 and 1.419 of the Commission's rules, 47 CFR 1.415, 1.419, interested parties may file comments as follows: comments are due January 9, 2004 and reply comments are due January 23, 2004. Comments may be filed using the Commission's Electronic Comment Filing System (ECFS) or by filing paper copies. See Electronic Filing of Documents in Rulemaking Proceedings, 63 FR 24121, May 1, 1998.

Comments filed through the ECFS can be sent as an electronic file via the Internet to http://www.fcc.gov/e-file/ecfs.html. Generally, only one copy of an electronic submission must be filed. If multiple docket or rulemaking numbers appear in the caption of this proceeding, however, commenters must transmit one electronic copy of the comments to each docket or rulemaking number referenced in the caption. In completing the transmittal screen, commenters should include their full name, U.S. Postal Service mailing address, and the applicable docket or rulemaking number. Parties may also submit an electronic comment by Internet e-mail. To get filing instructions for e-mail comments, commenters should send an e-mail to ecfs@fcc.gov, and should include the following words in the body of the message, “get form <your e-mail address>.” A sample form and directions will be sent in reply.

Parties who choose to file by paper must file an original and four copies of each filing. If more than one docket or rulemaking number appears in the caption of this proceeding, commenters must submit two additional copies for each additional docket or rulemaking number. Filings can be sent by hand or messenger delivery, by commercial overnight courier, or by first-class or overnight U.S. Postal Service mail (although we continue to experience delays in receiving U.S. Postal Service mail). The Commission's contractor, Natek, Inc., will receive hand-delivered or messenger-delivered paper filings for the Commission's Secretary at 236 Massachusetts Avenue, NE., Suite 110, Washington, DC 20002. The filing hours at this location are 8 a.m. to 7 p.m. All hand deliveries must be held together with rubber bands or fasteners. Any envelopes must be disposed of before entering the building. Commercial overnight mail (other than U.S. Postal Service Express Mail and Priority Mail) must be sent to 9300 East Hampton Drive, Capitol Heights, MD 20743. U.S. Postal Service first-class mail, Express Mail, and Priority Mail should be addressed to 445 12th Street, SW., Washington, DC 20554. All filings must be sent to the Commission's Secretary, Marlene H. Dortch, Office of the Secretary, Federal Communications Commission, 445 12th Street, SW., Washington, DC 20554.

Parties filing electronic media should be advised that the Commission released a public notice on August 22, 2003 providing new guidance for mailing electronic media.¹ In brief, electronic media should not be sent through USPS because of the eradiation process USPS mail must undergo to complete delivery. Hand or messenger delivered electronic media for the Commission's Secretary should be addressed for delivery to 236 Massachusetts Avenue, NE., Suite 110, Washington, DC 20002, and other messenger-delivered electronic media should be addressed for delivery to 9300 East Hampton Drive, Capitol Heights, MD 20743.

¹ Reminder—Filing Locations for Paper Documents and Instructions for Mailing Electronic Media, Public Notice, DA 03-2730 (rel. Aug. 22, 2003).

Parties also must send three paper copies of their filing to Sheryl Todd, Telecommunications Access Policy Division, Wireline Competition Bureau, Federal Communications Commission, 445 12th Street, SW., Room 5-B540, Washington, DC 20554. In addition, commenters must send diskette copies to the Commission's copy contractor, Qualex International, Portals II, 445 12th Street, SW., Room CY-B402, Washington, DC 20554.

Pursuant to § 1.1206 of the Commission's rules, 47 CFR 1.1206, this proceeding will be conducted as a permit-but-disclose proceeding in which ex parte communications are permitted subject to disclosure.

Federal Communications Commission.
Eric N. Einhorn,
Chief, Wireline Competition Bureau, Telecommunications Access Policy Division.

[FR Doc. 03-31969 Filed 12-29-03; 8:45 am]

BILLING CODE 6712-01-P